DEPARTMENT OF JUSTICE

Executive Office for Immigration Review

8 CFR Parts 1001, 1003, 1103, 1212, and 1292

[EOIR Docket No. 176]

RIN 1125-AA72

Recognition of Organizations and Accreditation of Non-Attorney Representatives

AGENCY: Executive Office for Immigration Review, Department of Justice.

ACTION: Proposed rule; notice of meeting.

SUMMARY: The Executive Office for Immigration Review (EOIR) has published in the Federal Register a proposed rule amending the regulations governing the requirements and procedures for authorizing representatives of non-profit religious, charitable, social service, or similar organizations to represent persons in proceedings before EOIR and the Department of Homeland Security (DHS). The proposed rule also proposes amendments to the regulations concerning EOIR's disciplinary procedures. EOIR seeks public comment on issues affecting this proposed rule and will host three open public meetings to discuss it. The first meeting will be limited to a discussion of the recognition of organizations; the second meeting will address accreditation of representatives; and the third meeting will address oversight of recognized organizations and accredited representatives.

DATES and Times: The first meeting will be held on Thursday, October 15, 2015 at 1:30 p.m. The second meeting will be held on Friday, October 23, 2015 at 1:30 p.m. The third meeting will be held Thursday, October 29, 2015 at 1:30 p.m.

ADDRESSES: The meetings will be held at 5107 Leesburg Pike, Suite 1800, Falls Church, VA 22041.

FOR FURTHER INFORMATION CONTACT: To RSVP for the meeting: Lauren Alder Reid, Chief & Counsel for Communications and Legislative Affairs, 703-305-0289, EngageWithEOIR@usdoj.gov. For each meeting, attendance will be limited to the first forty (40) individuals to RSVP. EOIR will also offer remote participation options for those who cannot physically attend the meeting. To attend the meeting in person or remotely, please RSVP with the name(s) of the attendee(s), the attendee's organization, and an email address where instructions may be sent for accessing the meeting.

SUPPLEMENTARY INFORMATION:

Background

EOIR has published a proposed rule (80 FR 59514, Oct. 1, 2015) to amend the regulations governing the recognition of organizations and accreditation of representatives who appear before EOIR and DHS. EOIR will be hosting three open public meetings to discuss the proposed rule. The purpose of these meetings is to solicit the views of interested stakeholders regarding the proposed rule.

Agenda for October 15, 2015, Meeting

The first meeting, which will be held on October 15, 2015, will focus on issues addressing the recognition of organizations. An agenda for the first meeting is listed below.

1. Introductions.

2. Overview presentation of the relevant sections of the proposed rule.

3. Moderated question and answer period.

4. Adjourn.

Agenda for October 23, 2015, Meeting

The second meeting, which will be held on October 23, 2015, will focus on issues addressing the accreditation of representatives. An agenda for the second meeting is listed below.

1. Introductions.

2. Overview presentation of the relevant sections of the proposed rule.

3. Moderated question and answer period.

4. Adjourn.

Agenda for October 29, 2015, Meeting

The third meeting, which will be held on October 29, 2015, will focus on issues addressing the oversight of recognized organizations and accredited representatives. An agenda for the third meeting is listed below.

1. Introductions.

2. Overview presentation of the relevant sections of the proposed rule.

3. Moderated question and answer period.

4. Adjourn.

Public Participation

The meetings are open to the public, but advance notice of attendance is required to ensure adequate seating and remote availability. Persons planning to attend should notify Lauren Alder Reid, Chief & Counsel for Communications and Public Affairs, 703-305-0289, PAO.EOIR@usdoj.gov. For each meeting, participation will be limited to the first forty (40) individuals to RSVP, with an additional remote participation option available.

Dated: October 7, 2015.
Lauren Alder-Reid,
Chief & Counsel, Office of Communications and Legislative Affairs.

[FR Doc. 2015-26083 Filed 10-13-15; 8:45 am]

BILLING CODE 4410-30-P